DEPARTMENT OF AGRICULTURE

Natural Resources Conservation Service

Notice of Proposed Changes to the National Handbook of Conservation Practices for the Natural Resources Conservation Service

AGENCY: Natural Resources Conservation Service (NRCS), USDA.

ACTION: Notice of availability of proposed changes in the NRCS National Handbook of Conservation Practices for public review and comment.

SUMMARY: Notice is hereby given of the intention of NRCS to issue a series of revised conservation practice standards in the National Handbook of Conservation Practices. These standards include: Channel Bed Stabilization (Code 584), Dust Control From Animal Activity on Open Lot Surfaces (Code 375), Karst Sinkhole Treatment (Code 527), Lined Waterway or Outlet (Code 468), Monitoring Well (Code 353), On-Farm Equipment Efficiency Improvement (Code 374), Pond Sealing or Lining—Bentonite Treatment (Code 521C), Pond Sealing or Lining—Compacted Clay Treatment (Code 521D), Pond Sealing or Lining—Soil Dispersant Treatment (Code 521B), Salinity and Sodic Soil Management (Code 610), Stream Habitat Improvement and Management (Code 395), Vertical Drain (Code 630), Water Well (Code 642), Water Well Decommissioning (Code 351), and Well Water Testing (Code 355).

NRCS State Conservationists who choose to adopt these practices for use within their States will incorporate them into Section IV of their respective electronic Field Office Technical Guides. These practices may be used in conservation systems that treat highly erodible land (HEL) or on land determined to be a wetland. Section 343 of the Federal Agriculture Improvement and Reform Act of 1996 requires NRCS to make available for public review and comment all proposed revisions to conservation practice standards used to carry out HEL and wetland provisions of the law.

DATES: Effective Date: This is effective August 4, 2010.

Comment Date: Submit comments on or before September 3, 2010. Final versions of these new or revised conservation practice standards will be adopted after the close of the 30-day comment period, and after consideration of all comments.

ADDRESSES: Comments should be submitted using any of the following methods:

• Mail: Wayne Bogovich, National Agricultural Engineer, Conservation Engineering Division, Department of Agriculture, Natural Resources Conservation Service, 1400 Independence Avenue SW., Room 6136 South Building, Washington, DC 20250.

• E-mail: wayne.bogovich@wdc.usda.gov.

FOR FURTHER INFORMATION CONTACT: Wayne Bogovich, National Agricultural Engineer, Conservation Engineering Division, Department of Agriculture, Natural Resources Conservation Service, 1400 Independence Avenue SW., Room 6136 South Building, Washington, DC 20250.

Electronic copies of these standards can be downloaded or printed from the following Web site: ftp://ftp-fc.sc.egov.usda.gov/NHQ/practice-standards/federal-register/. Requests for paper versions or inquiries may be directed to Wayne Bogovich, National Agricultural Engineer, Conservation Engineering Division, Department of Agriculture, Natural Resources Conservation Service, 1400 Independence Avenue SW., Room 6136 South Building, Washington, DC 20250.

SUPPLEMENTARY INFORMATION: The amount of the proposed changes varies considerably for each of the Conservation Practice Standards addressed in this notice. To fully understand the proposed changes, individuals are encouraged to compare these changes with each standard's current version as shown at http://www.nrcs.usda.gov/technical/Standards/nhcp.html. To aid in this comparison, following are highlights of the proposed revisions to each standard:

Channel Bed Stabilization (Code 584)—Name changed for better description, plus minor edits.

Dust Control From Animal Activity on Open Lot Surfaces (Code 375)—This is a new Conservation Practice Standard.

Karst Sinkhole Treatment (Code 527)—Practice name changed from “Sinkhole and Sinkhole Area Treatment” to “Karst Sinkhole Treatment.” Practice specially does not apply to sinkholes with non-karst origins (structural failures due to piping, etc.), plus minor edits.

Lined Waterway or Outlet (Code 468)—Changes to the standard include: A revision in the range in Manning's roughness and references cited in the criteria section; an expansion of the considerations section to include fish and wildlife and soil bioengineering, etc.; and more comprehensive guidance on what should be included in the plans and specifications section.

Monitoring Well (Code 353)—Updated references to ASTM standards and minor edits.

On-Farm Equipment Efficiency Improvement (Code 374)—This is a new Conservation Practice Standard.

Pond Sealing or Lining—Bentonite Treatment (Code 521C)—The standard was revised to better match the changes to our technical guidance document National Engineering Handbook Series, Part 651, Agricultural Waste Management Field Handbook (AWMFH), Chapter 10, Appendix 10D.

Pond Sealing or Lining—Compacted Clay Treatment (Code 521D)—The standard was revised to better match the changes to our technical guidance document National Engineering Handbook Series, Part 651, AWMFH, Chapter 10, Appendix 10D.

Pond Sealing or Lining—Soil Dispersant Treatment (Code 521B)—The standard was revised to better match the changes to our technical guidance document National Engineering Handbook Series, Part 651, AWMFH, Chapter 10, Appendix 10D.

Salinity and Sodic Soil Management (Code 610)—Clarified the Conditions Where Practice Applies and General Criteria Applicable to All Purposes sections. Added separate sections for Criteria Applicable to Irrigated Lands and to Non-Irrigated Lands. Expanded the sections for Criteria To Reduce Problems of Crusting, Permeability or Soil Structure on Sodium-Affected Soils, and to Saline Seeps and Their Recharge Areas. Expanded the Considerations section. Added detailed requirements for Plans and Specifications. Deleted the Operation and Maintenance section. Reduced the References section.

Stream Habitat Improvement and Management (Code 395)—Changed “Stream Visual Assessment Protocol” to “Stream Visual Assessment Protocol, Version 2,” changed considerations, added monitoring guidelines for evaluating the effectiveness of the conservation actions, and added post-project monitoring to Operation and Maintenance.

Vertical Drain (Code 630)—Additional emphasis on water quality protection if practice is used.

Water Well (Code 642)—Purpose clarified to exclude human consumption. Screen entrance velocity criteria changed in accordance with AWWA standard.

Water Well Decommissioning (Code 351)—Name was changed to Water Well Decommissioning, distinguishing this practice from industry practices for closure of other purposed wells (oil, injection, etc.). Purpose was clarified. Additional clarification on plugging materials was added.

Well Water Testing (Code 355)—Conditions Where Practice Applies has been updated to exclude water wells not for agricultural use, plus minor edits.

Signed July 29, 2010, in Washington, DC.
Dave White,
Chief, Natural Resources Conservation Service.

[FR Doc. 2010-19133 Filed 8-3-10; 8:45 am]

BILLING CODE 3410-16-P